DEPARTMENT OF DEFENSE

Department of the Army

Mandatory Provision of Full Replacement Value Coverage by Department of Defense Personal Property Transportation Service Providers (TSPs)/Contractors

AGENCY: Department of the Army, DOD.

ACTION: Notice; request for comments.

SUMMARY: The original Federal Register notice for the subject action published in the Federal Register on Friday, December 15, 2006 (71 FR 75509). Notice remains in effect and is hereby supplemented to formally request all interested parties to submit comments on the proposal to Mr. Charles Helfrich, or Ms. Cathy Schoepfle SDPP-PA, at either FRVComments@sddc.army.mil or by courier to: Military Surface Deployment and Distribution Command, ATTN: SDPP-PA, Room 10N67, Hoffman Building II, 200 Stovall St., Alexandria, VA 22332-5000. Such comments must be received not later than 60 business days from the date this notice is published in the Federal Register.

Regulatory Flexibility Act

This action is not considered rule making within the meaning of Regulatory Flexibility Act, 5 U.S.C. 601-612.

Paperwork Reduction Act

The Paperwork Reduction Act, 44 U.S.C. 3051 et seq., does not apply because no information collection or record keeping requirements are imposed on contractors, offerors or members of the public.

Brenda S. Bowen,
Army Federal Register Liaison Officer.

[FR Doc. 07-30 Filed 1-08-07; 8:45 am]

BILLING CODE 3710-08-M